DEPARTMENT OF THE INTERIOR

Minerals Management Service

Major Portion Prices and Due Date for Additional Royalty Payments on Indian Gas Production in Designated Areas Not Associated With an Index Zone

AGENCY: Minerals Management Service (MMS), Interior.

ACTION: Notice of major portion prices for calendar year 2005.

SUMMARY: Final regulations for valuing gas produced from Indian leases, published on August 10, 1999, require MMS to determine major portion prices and notify industry by publishing the prices in the Federal Register. The regulations also require MMS to publish a due date for industry to pay additional royalty based on the major portion prices. This notice provides the major portion prices for the 12 months of 2005. The due date to pay additional royalties based on the major portion prices is 60 days after the publication date of this notice.

DATES: March 19, 2007.

ADDRESSES: See FOR FURTHER INFORMATION CONTACT section below.

FOR FURTHER INFORMATION CONTACT: John Barder, Indian Oil and Gas Compliance and Asset Management, MMS; telephone (303) 231-3702; FAX (303) 231-3755; e-mail to John.Barder@mms.gov; or Larry Gratz, Indian Oil and Gas Compliance and Asset Management, MMS; telephone (303) 231-3427; FAX (303) 231-3755; e-mail to Larry.Gratz@mms.gov. Mailing address: Minerals Management Service, Minerals Revenue Management, Compliance and Asset Management, Indian Oil and Gas Compliance and Asset Management, P.O. Box 25165, MS 396B2, Denver, Colorado 80225-0165.

SUPPLEMENTARY INFORMATION: On August 10, 1999, MMS published a final rule titled “Amendments to Gas Valuation Regulations for Indian Leases,” (64 FR 43506) with an effective date of January 1, 2000. The gas regulations apply to all gas production from Indian (tribal or allotted) oil and gas leases, except leases on the Osage Indian Reservation.

The rule requires that MMS publish major portion prices for each designated area not associated with an index zone for each production month beginning January 2000, along with a due date for additional royalty payments. See 30 CFR 206.174(a)(4)(ii) (2005). If additional royalties are due based on a published major portion price, the lessee must submit an amended Form MMS-2014, Report of Sales and Royalty Remittance, to MMS by the due date. If additional royalties are not paid by the due date, late payment interest, under 30 CFR 218.54 (2005), will accrue from the due date until payment is made, and an amended Form MMS-2014 is received. The table below lists the major portion prices for all designated areas not associated with an index zone. The due date is 60 days after the publication date of this notice.

Gas Major Portion Prices for Designated Areas Not Associated With an Index Zone
MMS-Designated areas | Jan 2005 (MMBtu) | Feb 2005 (MMBtu) | Mar 2005 (MMBtu) | Apr 2005 (MMBtu)
Blackfeet Reservation | 7.93 | 7.28 | 7.41 | 5.86
Fort Belknap | 5.59 | 5.71 | 5.83 | 5.92
Fort Berthold | 5.08 | 5.00 | 5.60 | 5.98
Fort Peck Reservation | 6.30 | 6.21 | 6.70 | 7.05
Navajo Allotted Leases in the Navajo Reservation | 5.46 | 5.31 | 5.35 | 6.09
Rocky Boys Reservation | 4.56 | 4.58 | 5.36 | 5.50
Ute Allotted Leases in the Uintah and Ouray Reservation | 5.58 | 5.13 | 5.21 | 6.09
Ute Tribal Leases in the Uintah and Ouray Reservation | 5.54 | 5.09 | 5.45 | 5.71

| May 2005 (MMBtu) | Jun 2005 (MMBtu) | Jul 2005 (MMBtu) | Aug 2005 (MMBtu)
Blackfeet Reservation | 5.82 | 5.29 | 5.66 | 5.95
Fort Belknap | 5.84 | 5.79 | 5.97 | 5.97
Fort Berthold | 5.58 | 5.46 | 6.80 | 7.60
Fort Peck Reservation | 6.60 | 6.52 | 7.41 | 7.90
Navajo Allotted Leases in the Navajo Reservation | 6.06 | 5.36 | 6.00 | 6.31
Rocky Boys Reservation | 4.77 | 5.19 | 5.27 | 6.72
Ute Allotted Leases in the Uintah and Ouray Reservation | 6.00 | 5.28 | 5.80 | 6.22
Ute Tribal Leases in the Uintah and Ouray Reservation | 5.77 | 5.28 | 5.71 | 5.97

| Sep 2005 (MMBtu) | Oct 2005 (MMBtu) | Nov 2005 (MMBtu) | Dec 2005 (MMBtu)
Blackfeet Reservation | 7.76 | 9.60 | 10.53 | 8.93
Fort Belknap | 6.63 | 7.10 | 6.68 | 6.63
Fort Berthold | 9.93 | 11.22 | 8.45 | 11.26
Fort Peck Reservation | 9.26 | 10.61 | 12.33 | 9.75
Navajo Allotted Leases in the Navajo Reservation | 8.13 | 9.40 | 10.26 | 8.52
Rocky Boys Reservation | 8.42 | 9.46 | 7.46 | 9.34
Ute Allotted Leases in the Uintah and Ouray Reservation | 8.07 | 9.42 | 9.70 | 8.04
Ute Tribal Leases in the Uintah and Ouray Reservation | 7.99 | 9.37 | 9.75 | 8.71

For information on how to report additional royalties due to major portion prices, please refer to our Dear Payor letter dated December 1, 1999, on the MMS Web site address at http://www.mrm.mms.gov/ReportingServices/PDFDocs/991201.pdf.

Dated: November 16, 2006.
Lucy Querques Denett,
Associate Director for Minerals Revenue Management.

[FR Doc. E7-629 Filed 1-17-07; 8:45 am]

BILLING CODE 4310-MR-P